DEPARTMENT OF TRANSPORTATION

Federal Aviation Administration

14 CFR Part 39

[Docket No. 2001-NM-355-AD; Amendment 39-13448; AD 2004-03-04]

RIN 2120-AA64

Airworthiness Directives; BAE Systems (Operations) Limited (Jetstream) Model 4101 Airplanes

AGENCY: Federal Aviation Administration, DOT.

ACTION: Final rule.

SUMMARY: This amendment adopts a new airworthiness directive (AD), applicable to all BAE Systems (Operations) Limited (Jetstream) Model 4101 airplanes. This AD requires repetitive inspections for cracking in the casing of the nose landing gear (NLG), and corrective action if necessary. This action is necessary to find and fix cracking of the NLG casing, which could result in failure of the NLG, and consequent reduced controllability of the airplane during takeoff and landing. This action is intended to address the identified unsafe condition.

DATES: Effective March 15, 2004.

The incorporation by reference of certain publications listed in the regulations is approved by the Director of the Federal Register as of March 15, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited (Jetstream) Model 4101 airplanes was published in the Federal Register on November 18, 2003 (68 FR 65011). That action proposed to require repetitive inspections for cracking in the casing of the nose landing gear, and corrective action if necessary.

Comments

Interested persons have been afforded an opportunity to participate in the making of this amendment. No comments were submitted in response to the proposal or the FAA's determination of the cost to the public.

Conclusion

The FAA has determined that air safety and the public interest require the adoption of the rule as proposed.

Cost Impact

We estimate that 57 airplanes of U.S. registry will be affected by this AD, and that it will take approximately 1 work hour per airplane to accomplish the required actions, at the average labor rate of $65 per work hour. Based on these figures, the cost impact of the requirements of this AD on U.S. operators is estimated to be $3,705, or $65 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-04 BAE Systems (Operations) Limited (Formerly British Aerospace Regional Aircraft): Amendment 39-13448. Docket 2001-NM-355-AD.

Applicability: All Model Jetstream 4101 airplanes, certificated in any category.

Compliance: Required as indicated, unless accomplished previously.

To find and fix cracking of the casing of the nose landing gear (NLG), which could result in failure of the NLG, and consequent reduced controllability of the airplane during takeoff and landing, accomplish the following:

Service Bulletin References

(a) The following information pertains to the service bulletin referenced in this AD:

(1) The term “alert service bulletin” as used in this AD, means the Accomplishment Instructions of BAE Systems (Operations) Limited Alert Service Bulletin J41-A32-079, Revision 2, dated April 28, 2003.

(2) The alert service bulletin refers to APPH Ltd. Service Bulletin AIR83586-32-18, Revision 1, dated October 2001, as an additional source of service information for the accomplishment of certain actions in BAE Systems (Operations) Limited Alert Service Bulletin J41-A32-079, Revision 2.

(3) Inspections and corrective actions accomplished before the effective date of this AD per BAE Systems (Operations) Limited Alert Service Bulletin J41-A32-079, Revision 1, dated October 25, 2001, are acceptable for compliance with the corresponding actions required by this AD.

(4) Although the alert service bulletin referenced in this AD specifies to submit certain information to the manufacturer, this AD does not include such a requirement.

Inspections

(b) Within 7 days after the effective date of this AD, do a detailed inspection for cracking of the NLG casing, per the alert service bulletin. Then, at the compliance time specified in paragraph (b)(1) or (b)(2) of this AD, as applicable, do a fluorescent dye penetrant inspection for cracking of the NLG casing, per the alert service bulletin.

(1) If no cracking is found during the detailed inspection, within 30 days after accomplishment of the detailed inspection, do the fluorescent dye penetrant inspection.

(2) If any cracking is found during the detailed inspection, before further flight, do the fluorescent dye penetrant inspection.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(c) If any cracking is found during any inspection per paragraph (b) of this AD, before further flight, do paragraph (c)(1) or (c)(2) of this AD, as applicable, per the alert service bulletin.

(1) If the cracking is within the limits specified in the alert service bulletin, repair the NLG casing.

(2) If the cracking is outside the limits specified in the alert service bulletin, replace the NLG casing with a new or serviceable NLG casing.

Note 2: Although the alert service bulletin specifies that operators may contact the manufacturer for approval of a ferry flight to a location where the replacement of the NLG casing may be accomplished, this AD requires any ferry flight to be approved by the FAA, as specified in 14 CFR part 39.

Repetitive Inspections

(d) Repeat the inspections in paragraph (b) of this AD, and the corrective action in paragraph (c) of this AD, as applicable, at intervals not to exceed 1,200 landings.

Note 3: There is no terminating action available at this time for the repetitive inspections required by paragraph (d) of this AD.

Parts Installation

(e) As of the effective date of this AD, no person may install an NLG casing on any airplane unless it has been inspected per paragraph (b) of this AD and found to be free of any cracking.

Alternative Methods of Compliance

(f) In accordance with 14 CFR 39.19, the Manager, International Branch, ANM-116, Transport Airplane Directorate, FAA, is authorized to approve alternative methods of compliance for this AD.

Incorporation by Reference

(g) Unless otherwise specified in this AD, the actions shall be done in accordance with BAE Systems (Operations) Limited Alert Service Bulletin J41-A32-079, Revision 2, dated April 28, 2003. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 4: The subject of this AD is addressed in British airworthiness directive 004-10-2001.

Effective Date

(h) This amendment becomes effective on March 15, 2004.

Issued in Renton, Washington, on January 29, 2004.
Kalene C. Yanamura,
Acting Manager, Transport Airplane Directorate, Aircraft Certification Service.

[FR Doc. 04-2463 Filed 2-6-04; 8:45 am]

BILLING CODE 4910-13-P